DEPARTMENT OF ENERGY

Federal Energy Regulatory Commission

Combined Notice of Filings #2

Take notice that the Commission received the following electric rate filings:

Docket Numbers: ER10-2302-006.

Applicants: Public Service Company of New Mexico.

Description: Public Service Company of New Mexico submits Triennial Market Power Update.

Filed Date: 12/29/15.

Accession Number: 20151229-5195.

Comments Due: 5 p.m. ET 2/29/16.

Docket Numbers: ER16-648-000.

Applicants: Valley Electric Association, Inc.

Description: Section 205(d) Rate Filing: Annual TRBAA Filing to be effective 1/1/2016.

Filed Date: 12/29/15.

Accession Number: 20151229-5230.

Comments Due: 5 p.m. ET 1/19/16.

Docket Numbers: ER16-649-000.

Applicants: Arizona Public Service Company.

Description: Tariff Cancellation: Cancellation of Tariff 304 to be effective 2/28/2016.

Filed Date: 12/29/15.

Accession Number: 20151229-5260.

Comments Due: 5 p.m. ET 1/19/16.

Docket Numbers: ER16-650-000.

Applicants: Arizona Public Service Company.

Description: Tariff Cancellation: Cancellation of Service Agreement No. 340 to be effective 2/28/2016.

Filed Date: 12/29/15.

Accession Number: 20151229-5262.

Comments Due: 5 p.m. ET 1/19/16.

Docket Numbers: ER16-651-000.

Applicants: Milo Wind Project, LLC.

Description: Market-Based Triennial Review Filing: Milo Wind Project Triennial Filing to be effective 2/28/2016.

Filed Date: 12/29/15.

Accession Number: 20151229-5273.

Comments Due: 5 p.m. ET 2/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2015.
Nathaniel J. Davis, Sr.,
Deputy Secretary.

[FR Doc. 2015-33122 Filed 1-4-16; 8:45 am]

BILLING CODE 6717-01-P